DEPARTMENT OF LABOR

Employment and Training Administration

Notice of Determinations Regarding Eligibility to Apply for Worker Adjustment Assistance and NAFTA Transitional Adjustment Assistance

In accordance with section 223 of the Trade Act of 1974, as amended, the Department of Labor herein presents summaries of determinations regarding eligibility to apply for trade adjustment assistance for workers (TA-W) issued during the period of January, 2002.

In order for an affirmative determination to be made and a certification of eligibility to apply for worker adjustment assistance to be issued, each of the group eligibility requirements of section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-39,482; Colorgraphic Offset Printing Co., Lancaster, NY

TA-W-40,128; TNS Mills, Inc., Eufala Plant, Eufala, AL

TA-W-40,050; Moco Thermal Industries, Romulus, MI

TA-W-39,605; Kimble Glass, Inc., Vineland, NJ

TA-W-40,317; Texfi Industries, Inc., Rocky Mount, NC

TA-W-39,658; Taylor Wharton, Harsco Gas and Fluid Control, NC

In the following cases, the investigation revealed that the criteria for eligibility have not been met for the reasons specified.

Increased imports did not contribute importantly to worker separations at the firm.

TA-W-39,794; M/A-Com Ceram Buffalo, NY

TA-W-39,938; Honeywell, Inc., Clearfield, UT

TA-W-38,579; National Starch and Chemical Co., Meredosia, IL

TA-W-40,097; Ismeca, USA, Vista, CA

TA-W-40,222; Richmond Technology, An Illinois Tool Works Co., Redlands, CA

The investigation revealed that criteria (2) has not been met. Sales or production did not decline during the relevant period as required for certification.

TA-W-40,319; General Electro Mechanical Corp., West Seneca, NY

TA-W-40,296; Rubatex Corp., Bedford, VA

TA-W-39,713 & A; J.M. Huber Corp., Headquartered in Houston, TX and Operating Throughout the State of Texas

Affirmative Determinations for Worker Adjustment Assistance

The following certifications have been issued; the date following the company name and location of each determination references the impact date for all workers of such determination.

TA-W-40,448; Newbold Corp., Rocky Mount, VA: May 28, 2000

TA-W-39,604 & A; Doran Mills, LLC, Shelby, NC and New York, NY: June 20, 2000

TA-W-40,005; SDK Knitting, Inc., Schaefferstown, PA: August 25, 2000

TA-W-40,009; JC Surrey 2001, Inc., Leander, TX: August 24, 2000

TA-W-40,078; Guilford Mills, Pine Grove, PA: September 9, 2000

TA-W-40,181; BASF Corp., Rensselaer, NY: June 19, 2001

TA-W-40,276; Dorel Juvenile Group, Inc., Formerly Cosco, Inc., St. Smith, AZ: October 8, 2000

TA-W-40,294; Fairfield Glove and Textile Col, Inc., Cherryville, NC: October 10, 2000

TA-W-40,325; Covington Industries, Inc., Calhoun Falls, SC: November 9, 2000

TA-W-40,379; HC Contracting, Inc., New York, NY: October 31, 2000

TA-W-40,454; Biltwell Clothing Co., Rector Sportswear, Rector, AR November 9, 2000

TA-W-39,374; Signature Cloth, Clifton, NJ: May 18, 2000

TA-W-39,793; Fourth Edition, Inc., Terre Hill, PA: July 30, 2000

TA-W-39,832; Fiskars Consumer Products, Inc., Wausau, WI: July 26, 2000

TA-W-39,952; MJM Knitwear Corp., Brooklyn, NY: August 16, 2000

TA-W-40,279; C & C Fashions, Inc., Bronx, NY: October 2, 2000

TA-W-40,365; Hyde Inc., Bangor, ME: November 11, 2000

TA-W-40,371; Regal Rugs, Inc., A Subsidiary of Spring Industries, Inc., North Vernon, IN: November 1, 2000

Also, pursuant to Title V of the North American Free Trade Agreement Implementation Act (Pub. L. 103-182) concerning transitional adjustment assistance hereinafter called (NAFTA-TAA) and in accordance with section 250(a), Subchapter D, Chapter 2, Title II, of the Trade Act as amended, the Department of Labor presents summaries of determinations regarding eligibility to apply for NAFTA-TAA issued during the month of January, 2002.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) or (4) were not met. Imports from Canada or Mexico did not contribute importantly to worker's separations. There was no shift in production from the subject firm to Canada or Mexico during the relevant period.

NAFTA-TAA-04460; National Starch and Chemical Co., Meredosia, IL

NAFTA-TAA-05159; Colorgraphic Offset Printing Co., Lancaster, NY

NAFTA-TAA-05191; Chiquita Processed Foods LLC, Eugene, OR

NAFTA-TAA-05375; Shasta Paper Co., Anderson, CA

NAFTA-TAA-05482; Texfi Industries, Inc., Rocky Mount Plant, Rocky Mount, NC

Affirmative Determinations NAFTA-TAA

NAFTA-TAA-5151; Fiskars Consumer Products, Inc., Wausau, WI: July 26, 2000

NAFTA-TAA-05324; Honeywell, Inc., Clearfield, UT: September 10, 2000

NAFTA-TAA-05427; Richmond Technology, An Illinois Tool Works Co., Redland, CA: October 8, 2000

NAFTA-TAA-05531; Regal Rugs, Inc., A Subsidiary of Spring Industries, Inc., North Vernon, IN

NAFTA-TAA-5609 & A; Key Industries, Buffalo, MO and Nevada, MO: December 5, 2000

NAFTA-TAA-05137; Kemet Electronics Corp., Greenwood Plant, Greenwood, SC, A; Mauldin Plant, Simpsonville, SC, B; Simpsonville Plant, Simpsonville, SC and C; Fountain Inn Plant, Fountain Inn, SC: July 23, 2000

NAFTA-TAA-05357; Linq Industrial Fabrics, Inc., Marino Technologies Div., Opalocka, FL: September 18, 2000

NAFTA-TAA-055883; Weavexx, A Xerium Co., Greenville, TN: November 27, 2000

NAFTA-TAA-05214; Horton, Inc., Britton, SD: June 29, 2000

I hereby certify that the aforementioned determinations were issued during the month of January, 2002. Copies of these determinations are available for inspection in Room C-5311, U.S. Department of Labor, 200 Constitution Avenue, NW., Washington, DC 20210 during normal business hours or will be mailed to persons who write to the above address.

Dated: January 15, 2002.
Edward A. Tomchick,
Director, Division of Trade Adjustment Assistance.

[FR Doc. 02-1784 Filed 1-23-02; 8:45 am]

BILLING CODE 4510-30-M